DEPARTMENT OF HOMELAND SECURITY

Coast Guard

33 CFR Part 117

[Docket No. USCG-2010-0265]

RIN 1625—AA09

Drawbridge Operation Regulations; Curtis Creek, Baltimore, MD

AGENCY: Coast Guard, DHS.

ACTION: Notice of proposed rulemaking; withdrawal.

SUMMARY: The Coast Guard is withdrawing its notice of proposed rulemaking concerning the operation of the Pennington Avenue Bridge, at mile 0.9, across Curtis Creek at Baltimore, MD. The requested change would have allowed the bridge to operate from a remote location at the City of Baltimore Transportation Management Center. The proposed rule is being withdrawn because of the many concerned comments sent from the primary waterway users that transit the bridge.

DATES: The notice of proposed rulemaking is withdrawn on September 3, 2010.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0265 in the “Keyword” box and then clicking “Search”.

FOR FURTHER INFORMATION CONTACT: If you have questions about this notice, call or e-mail Lindsey Middleton, Fifth Coast Guard District; telephone (757) 398-6629, e-mail Lindsey.R.Middleton@uscg.mil. If you have questions on viewing material in the docket, call Renee V. Wright, Program Manager, Docket Operations, telephone 202-366-9826.

SUPPLEMENTARY INFORMATION:

Background

On June 2, 2010, we published an NPRM entitled “Drawbridge Operation Regulation Curtis Creek, Baltimore, MD” in the Federal Register (75 FR 30747-30750). The rulemaking concerned eliminating the need for a bridge tender by allowing the bridge to be operated from a remote location at the City of Baltimore Transportation Management Center. This proposed change would have maintained the bridge's current operating schedule set forth in 33 CFR 117.5 that states: Drawbridges shall open promptly and fully for the passage of vessels when a request to open is given.

Withdrawal

The City of Baltimore, the owner of the Pennington Avenue Bridge, had requested a change in the operating procedures to allow the bridge to be opened from a remote location at the City of Baltimore Transportation Management Center.

The Coast Guard received several comments opposing the proposed rule change. We conducted a lengthy and thorough investigation that included a site visit of the bridge and the Baltimore City Transportation Management Center. We also conducted a meeting at the Coast Guard Yard in Baltimore, MD with the primary waterway users that transit the bridge, staff from the City of Baltimore's Transportation division, and their contracted consulting company.

Our investigation along with the majority of the comments revealed that the rulemaking could impose critical service delays to the various industries that rely on a timely bridge opening. This withdrawal is based on the reason that this change would not improve the bridge usage for roadway and waterway users.

Authority: This action is taken under the authority of 33 U.S.C. 499; 33 CFR 1.05-1; Department of Homeland Security Delegation No. 0170.1.

Dated: August 15, 2010,
William D. Lee,
Rear Admiral, U.S. Coast Guard, Commander, Fifth Coast Guard District.

[FR Doc. 2010-22034 Filed 9-2-10; 8:45 am]

BILLING CODE 9110-04-P